DEPARTMENT OF THE INTERIOR

National Park Service

Cape Cod National Seashore, South Wellfleet, MA; Cape Cod National Seashore Advisory Commission Two Hundredth Sixty-Eighth Notice of Meeting

Notice is hereby given in accordance with the Federal Advisory Committee Act (Pub. L. 92-463, 86 Stat. 770, 5 U.S.C. App 1, Section 10), that a meeting of the Cape Cod National Seashore Advisory Commission will be held on June 19, 2009.

The Commission was reestablished pursuant to Public Law 87-126 as amended by Public Law 105-280. The purpose of the Commission is to consult with the Secretary of the Interior, or her designee, with respect to matters relating to the development of Cape Cod National Seashore, and with respect to carrying out the provisions of sections 4 and 5 of the Act establishing the Seashore.

The Commission members will meet at 1 p.m. in the meeting room at Headquarters, 99 Marconi Station, Wellfleet, Massachusetts for the regular business meeting to discuss the following:

1. Adoption of Agenda.

2. Approval of Minutes of Previous Meetings (September 22, 2008/December 1, 2008).

3. Reports of Officers.

4. Reports of Subcommittees.

5. Superintendent's Report.

Update on Dune Shacks.

Improved Properties/Town Bylaws.

Wind Turbines/Cell Towers.

Highlands Center Update.

Alternate Transportation Funding.

Centennial Challenge.

6. Old Business.

7. New Business.

Role of the Advisory Commission in advising the Superintendent on zoning issues.

Bike Trail Planning.

8. Date and agenda for next meeting.

9. Public comment and

10. Adjournment.

The meeting is open to the public. It is expected that 15 persons will be able to attend the meeting in addition to Commission members.

Interested persons may make oral/written presentations to the Commission during the business meeting or file written statements. Such requests should be made to the park superintendent prior to the meeting. Further information concerning the meeting may be obtained from the Superintendent, Cape Cod National Seashore, 99 Marconi Site Road, Wellfleet, MA 02667.

Dated: April 8, 2009.
George E. Price, Jr.,
Superintendent.

[FR Doc. E9-10161 Filed 5-1-09; 8:45 am]

BILLING CODE 4310-WU-P